DEPARTMENT OF THE INTERIOR

Bureau of Ocean Energy Management

[Docket No. BOEM-2024-0040]

Commercial Leasing for Wind Power Development on the Central Atlantic Outer Continental Shelf—Central Atlantic 2—Call for Information and Nominations

AGENCY: Bureau of Ocean Energy Management, Interior.

ACTION: Call for information and nominations; request for comments.

SUMMARY: This call for information and nominations (Call or notice) invites public comment on, and assesses interest in, possible commercial wind energy leasing on the Outer Continental Shelf (OCS) offshore the U.S. central Atlantic coast as part of a second round of planning for commercial leasing in the region (hereinafter, Central Atlantic 2). The Bureau of Ocean Energy Management (BOEM) will consider information received in response to this Call to determine whether to schedule a competitive lease sale or to issue a noncompetitive lease for any portion of the area described in this Call (Call Area). Those interested in providing comments or information regarding site conditions, resources, and multiple uses in close proximity to or within the Call Area should provide the information requested in section 8, “Requested Information from Interested or Affected Parties,” under the “Supplementary Information” heading of this Call. Those interested in leasing within the Call Area for a commercial wind energy project should provide the information described in section 9, “Required Nomination Information,” under “Supplementary Information.” BOEM may or may not offer a lease for a commercial offshore wind energy project within the Call Area after further government consultations, public participation, and environmental analyses.

DATES: BOEM must receive your interest in or comments on commercial leasing within the Call Area no later than October 21, 2024. Late submissions may not be considered.

ADDRESSES: Please submit nomination information for commercial leasing as discussed in section 9 entitled, “Required Nomination Information,” electronically via email to renewableenergy@boem.gov or by hard copy by mail to the following address: Seth Theuerkauf, Bureau of Ocean Energy Management, Office of Renewable Energy Programs, 45600 Woodland Road, Mailstop: VAM-OREP, Sterling, VA 20166. If you elect to mail a hard copy, also include an electronic copy on a portable storage device. Do not submit nominations via the Federal eRulemaking Portal. BOEM will list the qualified parties that submitted nominations and the aggregated locations of nominated areas on its website after review of the nominations.

Please submit all other comments and information by either of the following two methods:

1. Federal eRulemaking Portal: http://www.regulations.gov. In the search box at the top of the web page, enter BOEM-2024-0040 and then click “search.” Follow the instructions to submit public comments and to view supporting and related materials.

2. By mail to the following address: Bureau of Ocean Energy Management, Office of Renewable Energy Programs, 45600 Woodland Road, Mailstop: VAM-OREP, Sterling, VA 20166.

Treatment of confidential information is addressed in section 10 of this notice entitled, “Protection of Privileged, Personal, or Confidential Information.” BOEM will post all comments received on regulations.gov unless labeled as confidential.

FOR FURTHER INFORMATION CONTACT: Seth Theuerkauf, Bureau of Ocean Energy Management, Office of Renewable Energy Programs, 45600 Woodland Road (VAM-OREP), Sterling, Virginia 20166. (202) 368-0644 or Seth.Theuerkauf@boem.gov.

For information regarding qualification requirements to hold an OCS wind energy lease, contact Gina Best, BOEM Office of Renewable Energy Programs, at Gina.Best@boem.gov or (703) 787-1341.

SUPPLEMENTARY INFORMATION:

1. Authority

This Call is published under subsection 8(p)(3) of the Outer Continental Shelf Lands Act (OCSLA), 43 U.S.C. 1337(p)(3), and its implementing regulations at 30 CFR 585.210 and 585.211.

2. Purpose

The OCSLA requires BOEM to award leases competitively unless BOEM determines that there is no competitive interest (43 U.S.C. 1337(p)(3)). The primary purpose of this Call is to collect further information and feedback on industry interest, site conditions, resources, and ocean uses within, and surrounding, the Call Area.

An essential part of BOEM's renewable energy leasing process is working closely with Federal agencies, Tribes, State and local governments, industry, and ocean users to identify areas that may be suitable for potential offshore wind development to power the Nation. BOEM has not yet determined which areas, if any, within the Call Area may be offered for lease. Your input is essential and will help BOEM determine areas that may be suitable for offshore wind energy development. There will be multiple opportunities to provide feedback throughout the renewable energy planning and leasing process. A detailed description of the Call Area may be found below in section 6, “Description of Call Area.” For more information about BOEM's competitive and noncompetitive leasing processes, please see section 4, “BOEM's Planning and Leasing Process.”

3. Background

The Energy Policy Act of 2005 amended OCSLA by adding subsection 8(p)(1)(C), which authorizes the Secretary of the Interior (Secretary) to grant leases, easements, and rights-of-way on the OCS for activities that are not otherwise authorized by law and that produce or support production, transportation, or transmission of energy from sources other than oil or gas, including renewable energy sources. The Secretary delegated this authority to the BOEM Director. On April 29, 2009, the Department of the Interior (Department) published regulations entitled, “Renewable Energy and Alternate Uses of Existing Facilities on the Outer Continental Shelf,” ¹ which were subsequently re-codified at 30 CFR part 585.²

¹ 74 FR 19638 (April 29, 2009).

² 76 FR 64432 (October 18, 2011).

On May 15, 2024, the Department amended its offshore renewable energy regulations through the publication of the final Renewable Energy Modernization Rule.³ This final rule reduces regulatory burdens and streamlines processes, incorporates recommendations from stakeholders, and will assist the U.S. in reaching its climate and renewable energy goals. It also eliminates unnecessary requirements for the deployment of meteorological buoys; increases survey flexibility; improves the project design and installation verification process; establishes a public Renewable Energy Leasing Schedule; reforms BOEM's renewable energy auction regulations; tailors financial assurance requirements and instruments; clarifies safety management system regulations; revises other provisions; and makes technical corrections. The Renewable Energy Modernization Rule became effective on July 15, 2024.

³ 89 FR 42602 (May 15, 2024).

In March 2021, the Biden-Harris administration established a goal to deploy 30 gigawatts (GW) of offshore wind energy capacity by 2030. BOEM is committed to this ambitious goal by responsibly fostering the growth of offshore wind energy capacity and participating in collaborative, data-based planning to inform decisions involving shared ocean resources and the many users that depend on them.

BOEM appreciates the importance of coordinating its planning with other OCS users, regulators, and relevant Federal agencies including, but not limited to, the U.S. Fish and Wildlife Service (USFWS), the National Park Service (NPS), the U.S. Army Corps of Engineers (USACE), the U.S. Coast Guard (USCG), the National Aeronautics and Space Administration (NASA), the National Oceanic and Atmospheric Administration (NOAA), and the Department of Defense (DOD). BOEM also regularly coordinates with, and requests input from, the Mid-Atlantic Regional Council on the Ocean (MARCO) and Northeast Regional Ocean Council (NROC), which includes federally recognized Tribes, Federal and State agencies, and fishery management councils. BOEM also uses information contained in the Mid-Atlantic and Northeast Ocean Data Portals ⁴ in its decision-making, among other sources of information, because the portal includes maps of marine life, habitat areas, cultural resources, transportation links, fishing areas, and other human uses that must be considered when offshore energy or other infrastructure projects are proposed.

⁴ The Mid-Atlantic and Northeast Ocean Data Portals (maintained by the Mid-Atlantic Committee on the Ocean [http://portal.midatlanticocean.org/] and Northeast Regional Ocean Council [https://www.northeastoceandata.org], respectively) draw upon data from the MarineCadastre.gov national data portal, which was developed through a partnership between NOAA and BOEM. MarineCadastre.gov is an integrated marine information system that provides data, tools, and technical support for ocean and Great Lakes planning, designed specifically to support renewable energy siting on the OCS, but also used for other ocean-related efforts and recognized by regional ocean governance groups as the central place for authoritative Federal ocean data, metadata, and map services.

a. Central Atlantic Task Force

In 2020 and 2021, BOEM received requests from the Commonwealth of Virginia and the State of Maryland, respectively, to convene a regional renewable energy task force and begin the process that could lead to a lease sale. In response, BOEM established the Central Atlantic Intergovernmental Renewable Energy Task Force to facilitate coordination among relevant Federal agencies and Tribal, State, and local governments throughout the leasing process. The first task force meeting was held virtually on February 16, 2022, with the most recent task force meeting occurring on October 10, 2023. Materials from the task force meeting are available on the BOEM website at: https://www.boem.gov/renewable-energy/state-activities/central-atlantic.

b. Central Atlantic 1 Planning and Leasing

On April 29, 2022, BOEM published the “Call for Information and Nominations-Commercial Leasing for Wind Power Development on the Central Atlantic Outer Continental Shelf (OCS)” (hereinafter, Central Atlantic 1; BOEM-2022-0023) in the Federal Register.⁵ The Central Atlantic 1 Call Area (Figure 1) included six distinct areas (known as areas A-F) offshore the Commonwealth of Virginia and the States of Delaware, Maryland, and North Carolina, roughly bounded to the north by the mouth of Delaware Bay and to the south by Cape Hatteras, and comprising approximately 3,897,388 acres (1,577,217 hectares). On November 16, 2022, BOEM announced eight draft Wind Energy Areas (WEAs) within the Central Atlantic 1 Call Area covering approximately 1.7 million acres and located approximately 19 to 77 nautical miles off the Central Atlantic coast. On July 31, 2023, BOEM announced three final WEAs offshore Delaware, Maryland, and Virginia, including WEA A-2 (101,767 acres, located 26 nautical miles (nm) from Delaware Bay), WEA B-1 (78,285 acres, located 23 nm from Ocean City, MD), and WEA C-1 (176,506 acres, located 35 nm from Chesapeake Bay). The three final WEAs are in comparatively shallow water; BOEM deferred a decision on identification of additional final WEAs in deepwater areas (i.e., those within Central Atlantic 1 Call Area areas E and F) until further study can be completed. On December 11, 2023, BOEM published the Proposed Sale Notice for the Central Atlantic region, including Lease Area A-2 (comprised of the entirety of WEA A-2) and Lease Area C-1 (comprised of the entirety of WEA C-1), but excluding WEA B-1 due to the significant cost and mitigation needed to accommodate offshore wind construction and operations in that area. BOEM published a Final Sale Notice on July 1, 2024, which included OCS-A 0557 (Lease Area A-2) and OCS-A 0558 (Lease Area C-1). BOEM held the lease sale (ATLW-10) for these two lease areas on August 14, 2024.

⁵ 87 FR 25539 (April 29, 2022).

Figure 1: Outcomes of the Central Atlantic 1 lease planning process, including the original Central Atlantic 1 Call Area, draft Wind Energy Areas (WEAs), final WEAs, and Final Sale Notice (FSN) areas.

c. Central Atlantic 2 Planning and Leasing

Throughout early 2024, BOEM held a series of meetings with States throughout the Central Atlantic region, including North Carolina, Virginia, Maryland, Delaware, and New Jersey to determine interest from the States in pursuing additional planning for offshore wind lease areas to support each States' offshore wind energy goals through Central Atlantic 2. The State of North Carolina indicated interest in identification of additional lease areas to accommodate 3.0 GW of capacity (i.e., on the order of approximately 185,000 acres ⁶) to fulfill its remaining offshore wind energy goal of 8.0 GW by 2040. The State of Maryland indicated interest in identification of additional lease areas to accommodate between 1.5-4.0 GW (i.e., between approximately 95,000-250,000 acres ⁶) of remaining need to meet its 8.5 GW by 2031 goal. The State of Delaware's General Assembly recently passed the Delaware Energy Solutions Act (which Governor John Carney is expected to sign) that authorizes the State Energy Office to procure up to 1.2 GW (i.e., on the order of approximately 75,000 acres ⁶) of offshore wind energy through one or multiple offshore wind projects, either as standalone projects or in partnership with other states' project. North Carolina indicated interest in analysis of areas farther south than Cape Hatteras, which was the original southern boundary of the Central Atlantic 1 Call Area, towards a full evaluation of the OCS offshore of North Carolina. Maryland indicated potential interest in exploring areas farther north of Delaware Bay, which was the original northern boundary of the Central Atlantic 1 Call Area. Additionally, Maryland expressed interest in further analysis of the deepwater portions of the Central Atlantic 1 Call Area (i.e., areas E and F).

⁶ Acreage estimates are based upon power density estimates of 4.0 megawatts (MW) per square kilometer, as described in the U.S. Department of Energy Office of Energy Efficiency and Renewable Energy's Offshore Wind Market Report: 2023 Edition, available at: https://www.energy.gov/sites/default/files/2023-09/doe-offshore-wind-market-report-2023-edition.pdf.

4. BOEM's Planning and Leasing Process

a. Determination of Competitive Interest

Subsection 8(p)(3) of OCSLA states that “the Secretary shall issue a lease, easement, or right-of-way. . . on a competitive basis unless the Secretary determines after public notice of a proposed lease, easement, or right-of-way that there is no competitive interest.”

If BOEM determines that competitive interest exists in acquiring a lease to develop offshore wind energy and the areas within the Call Area are appropriate to lease, BOEM may hold one or more competitive lease sales for those areas. If BOEM holds a lease sale, all qualified bidders, including bidders that did not submit a nomination in response to this Call, will be able to participate in the lease sale.

BOEM reserves the right to refrain from offering for lease any areas that are nominated as a result of this Call and to modify nominated areas before offering them for lease.

b. Competitive Leasing Process

BOEM will follow the steps required by 30 CFR 585.211 through 585.226 if it decides to proceed with the competitive leasing process after analyzing the responses to this Call. Those steps are:

(1) Area Identification: Based on the information received in response to this Call, BOEM will identify areas for environmental analysis and consideration for leasing. Those areas will constitute WEAs and will be subject to environmental analysis in consultation with appropriate Federal agencies, federally recognized Tribes, State and local governments, and other interested parties. Before finalizing the WEAs, BOEM has committed to publishing draft WEAs and will hold a 30-day comment period with a docket on regulations.gov.

(2) Proposed Sale Notice (PSN): If BOEM decides to proceed with a competitive lease sale within the WEAs, BOEM will publish a PSN in the Federal Register with a comment period of not less than 30 days. The PSN will describe the areas BOEM intends to offer for leasing, the proposed conditions of a lease sale, the proposed auction format of the lease sale, and the lease instrument, including the proposed lease addenda. Additionally, the PSN will describe the criteria and process for evaluating bids in the lease sale.

(3) Final Sale Notice (FSN): After considering the comments on the PSN and completing its environmental analysis and consultations, if BOEM decides to proceed with a competitive lease sale, it will publish an FSN in the Federal Register at least 30 days before the date of the lease sale.

(4) Bid Submission and Evaluation: Following the publication of the FSN in the Federal Register, BOEM will offer the lease area(s) through a competitive sale process using procedures specified in the FSN. BOEM will review the sale, including bids and bid deposits, for technical and legal adequacy. BOEM will ensure that bidders have complied with all applicable regulations. BOEM reserves the right to reject all bids and to withdraw an offer to lease an area, even after bids have been submitted.

(5) Issuance of a Lease: Following identification of the winning bidder on a lease area, BOEM will notify that bidder and provide the lease documents for signature.

5. Development of the Call Area

BOEM engaged in discussions throughout early 2024 with several Federal agencies (i.e., NOAA, USFWS, DOD, NASA, and USCG) and State governments (i.e., New Jersey, Delaware, Maryland, Virginia, and North Carolina) before deciding upon the Call Area boundaries. Multiple Central Atlantic States expressed interest to BOEM in analyzing the compatibility of areas outside of the boundaries of the original Central Atlantic 1 Call Area for potential offshore wind leasing. BOEM also received feedback during the Central Atlantic 1 planning process from stakeholders and ocean users requesting that areas not be removed early in the planning process so additional input could be provided to BOEM prior to large area removals. Furthermore, given the breadth of relevant spatial data representing marine natural resources and ocean uses available in the Central Atlantic region, it was determined that a broadened Central Atlantic 2 Call Area would permit robust application of the suitability model to identify the least conflicted areas in the region. Therefore, BOEM's strategy for the Central Atlantic 2 Call Area is to start with an expanded geographic area and limit the removal of areas with potential conflicts until after public comment and engagement on the Call Area has occurred.

BOEM defined the northern boundary of the Call Area as the area abutting the southernmost extent of the Call Area described in the “Commercial Leasing for Wind Power on the Outer Continental Shelf in the New York Bight—Call for Information and Nominations” (BOEM-2018-0004), published in the Federal Register.⁷ Given the interest expressed from the State of North Carolina in analyzing the potential compatibility of the full OCS offshore of North Carolina, BOEM defined the southern boundary of the Call Area by extending the state line between North and South Carolina eastward into the offshore OCS. The eastern boundary was defined by the 60-meter bathymetric contour given depth limitations associated with the installation of typical fixed monopile foundations for offshore wind turbines.⁸ The western boundary was defined as the line located three nm from the coastline, where the OCS begins and all submerged lands lying seaward are under federal jurisdiction.

⁷ 83 FR 15602 (April 11, 2018).

⁸ Musial, W., Spitsen, P., Duffy, P., Beiter, P., Shields, M., Hernando, D. M., Hammond, R., Marquis, M., King, J., & Sathish, S. (2023). Offshore Wind Market Report: 2023 Edition. https://doi.org/10.2172/2001112.

BOEM removed only a limited number of areas from the Call Area, including areas in which offshore wind energy development cannot occur as a result of law, jurisdiction, or technical considerations. These include:

• Units of the National Park System, National Wildlife Refuge System, National Marine Sanctuary System, or any National Monument (§ 585.204);

• Existing Traffic Separation Schemes (TSS), fairways, or other internationally recognized navigation measures;

• Existing BOEM lease areas; and

• Unsolicited lease request areas that are the subject of a separate request for competitive interest.

BOEM recognizes that the Call Area includes areas that conflict with existing ocean uses (e.g., fishing, shipping) and sensitive habitats that are important to the conservation and recovery of protected species, including specific areas about which BOEM has previously received feedback from the Central Atlantic Task Force and the public during the Central Atlantic 1 process. BOEM intends to integrate both: (a) previous feedback and (b) additional information requested on the areas in this notice, within the suitability model to assist in identifying areas appropriate for WEAs through the next phase of the planning process. To synthesize and communicate feedback BOEM received during the Central Atlantic 1 process and that BOEM is further considering as part of the Central Atlantic 2 process, BOEM developed: (1) a series of sector-specific maps identifying specific areas of known concern within the Central Atlantic 2 Call Area, and (2) a Central Atlantic Data Inventory that includes specific spatial data that represent natural resources and ocean uses in the Central Atlantic region that BOEM is considering for inclusion in the suitability model. These resources can be accessed at: https://www.boem.gov/renewable-energy/state-activities/central-atlantic. BOEM welcomes comments and further feedback on either of these resources, including the specific questions included in section 8, “Requested Information from Interested or Affected Parties.”

6. Description of Call Area

The Call Area consists of 13,476,805 acres located off the coasts of New Jersey, Delaware, Maryland, Virginia, and North Carolina (see Figure 1). The map depicting the Call Area (Figure 1), a spreadsheet listing its specific OCS blocks, and an Esri shapefile are available for download on the BOEM website at https://www.boem.gov/renewable-energy/state-activities/central-atlantic.

Figure 2. Central Atlantic 2 Call for Information and Nominations Area

7. Central Atlantic 2 Next Steps

The Call Area identifies broad portions of the OCS offshore the U.S. central Atlantic coast for further analysis. That analysis includes commercial nominations and public comments submitted in response to this Call so that potential use conflicts can be analyzed during the next step in the leasing process: the designation of specific wind energy areas (Area Identification). BOEM's analysis during Area Identification will evaluate the appropriateness of the Call Area for offshore wind energy development, balanced against potential ocean user conflicts. BOEM will consider information from environmental reviews, consultations, public comments, and continued coordination with the Central Atlantic Intergovernmental Renewable Energy Task Force, which includes relevant Federal, Tribal, State, and local governments. BOEM anticipates designating specific WEAs within the Call Area and developing lease terms and conditions to mitigate any possible adverse impacts from leasing, site assessment, construction, and operational activities.

a. BOEM/National Centers for Coastal Ocean Science (NCCOS) Partnership

In September 2022, BOEM announced enhancements to its Area Identification process.⁹ One of these enhancements was a partnership with NCCOS to employ a spatial model that analyzes entire marine ecosystems to identify the least conflicted areas for wind energy sites. NCCOS and BOEM are leveraging a team of expert spatial planners, marine and fisheries scientists, project coordinators, environmental policy analysts, and other subject matter experts to develop the Central Atlantic Offshore Wind Suitability Model (suitability model). The suitability model will build upon the model that was developed to inform the most recent round of leasing in the Central Atlantic region, including a geographic expansion of the modeling domain to reflect the broadened Call Area and an update to underlying spatial data to reflect developments in best available spatial data and feedback provided via the Central Atlantic Task Force and public comments during Central Atlantic 1. To review the final report that describes the suitability model developed for Central Atlantic 1, please visit: https://www.boem.gov/renewable-energy/state-activities/central-atlantic-appendix-b-wea-final-report-nccos.

⁹ BOEM Enhances its Processes to Identify Future Offshore Wind Energy Areas. (September 16, 2022). Bureau of Ocean Energy Management. https://www.boem.gov/newsroom/notes-stakeholders/boem-enhances-its-processes-identify-future-offshore-wind-energy-areas.

BOEM and NCCOS intend to use the suitability modeling methods that were previously applied to offshore wind energy siting efforts in the Gulf of Mexico, Gulf of Maine, and Central Atlantic regions to inform development of Central Atlantic 2 draft WEAs. NCCOS's spatial modeling approach provides a powerful tool for identifying areas that are most suitable for offshore wind energy development. Additionally, BOEM intends for this partnership and modeling approach to enhance transparency, improve engagement, and provide a consistent, reproducible methodology for understanding and deconflicting ocean space.

b. Memorandum of Understanding (MOU) Between BOEM and the State of Maryland

On June 7, the Department announced ¹⁰ an MOU between BOEM and the State of Maryland to support the coordinated development of wind energy generation offshore Maryland. Under the MOU, BOEM and the State of Maryland will continue ongoing efforts to explore and identify potential areas for offshore wind leasing, including through the Central Atlantic 2 planning and leasing process. BOEM will also continue to convene the Central Atlantic Task Force with the State and other government stakeholders to enhance collaboration and address challenges associated with the siting of offshore wind leasing areas. These efforts will support and augment existing and planned coordination for developing offshore wind energy in the Central Atlantic region.

¹⁰ Biden-Harris Administration Leaders Announce Steps to Advance Offshore Wind Progress in Maryland. (June 7, 2024). Department of the Interior. https://www.doi.gov/pressreleases/biden-harris-administration-leaders-announce-steps-advance-offshore-wind-progress.

c. Coordination With DOD

The DOD conducts offshore testing, training, and operations within portions of the Call Area. BOEM intends to refine the Call Area during the Area Identification process based on DOD's assessment of compatibility between commercial offshore wind energy development and DOD activities. BOEM is working with the DOD and will continue collaborating closely with DOD to update the Central Atlantic's offshore wind energy compatibility assessment. That assessment may identify wind energy exclusion areas and/or areas that may require site-specific conditions and stipulations to ensure offshore wind energy facilities are compatible with DOD activities. These stipulations may include, among others: hold and save harmless agreements; mandatory coordination with DOD on specified activities; restrictions on electromagnetic emissions; and evacuation procedures from the lease area for safety reasons when notified by the DOD. BOEM may remove from leasing consideration any OCS blocks identified as incompatible with DOD's activities in the updated assessment.

d. Coordination With USCG

On January 19, 2024, USCG published a notice of proposed rulemaking to establish shipping safety fairways (“fairways”) along the Atlantic Coast of the United States previously identified in the Atlantic Coast Port Access Route Study (ACPARS) (USCG-2019-0279-0032) in the Federal Register.¹¹ The comment period closed on May 17, 2024. BOEM is aware of potential conflicts between the Call Area and the proposed fairways published in the proposed rulemaking. BOEM is working closely with USCG to ensure WEAs and fairways identified in the final rule are deconflicted during Area Identification and subsequent phases of the leasing process.

¹¹ 89 FR 3587 (January 19, 2024).

e. Coordination With NASA

NASA conducts a wide range of launch and flight operations from the Wallops Flight Facility (WFF) located on Wallops Island, Virginia. Operations extend over a wide-range of azimuths from WFF for launch vehicles that fly from low elevations just above the sea surface to suborbital missions and launches up to low-Earth orbit. NASA has previously communicated to BOEM a composite hazard area for most missions launched from WFF. BOEM is aware of potential conflicts between the Call Area and the WFF hazard area and is working closely with NASA to deconflict possible WEAs relative to the hazard area.

f. Coordination With NPS

NPS manages a number of units of the National Park System within close proximity to the Call Area, including Great Egg Harbor Scenic and Recreational River, Assateague Island National Seashore, Colonial National Historical Park, Wright Brothers National Memorial, Fort Raleigh National Historical Site, Cape Hatteras National Seashore, and Cape Lookout National Seashore. NPS also has program responsibilities for National Historic Landmarks (NHLs) and National Natural Landmarks (NNLs) adjacent to the Call Area. NPS has previously provided information to BOEM regarding NPS units, NHLs, and NNLs as part of the Central Atlantic 1 planning process, and BOEM will further coordinate with NPS to deconflict possible WEAs relative to these NPS assets.

8. Requested Information From Interested or Affected Parties

BOEM requests comments regarding the following features, activities, mitigations, or concerns within or around the Call Area, as well as the Central Atlantic 1 deepwater Call Area areas (i.e., areas E and F; see `c' below). Commenters should be as specific and detailed as possible to help BOEM understand and address the comments. Where applicable, spatial information should be submitted in a format compatible with Esri ArcGIS (Esri shapefile or Esri file geodatabase) in the NAD 83 geographic coordinate system.

a. BOEM and NCCOS Suitability Modeling

i. In partnership with NCCOS (described in section 7.a), BOEM published a list of the datasets it plans to use to inform the WEA suitability model. The datasets are available at https://www.boem.gov/renewable-energy/state-activities/central-atlantic. BOEM requests comments on the identified datasets and information responsive to the following questions: Are these data the best available? Do the data reflect the most relevant and important time series and ranges? Are there any known gaps or limitations in the data?

ii. Transmission: BOEM requests recommendations on relevant spatial data for areas between the Call Area and the coastline to inform suitability modeling of potential transmission cable corridors. This work would build upon the data and approach used in the WEA site suitability model. Working with our partners in Tribal, State, and local governments will be essential for procuring available data and identifying data gaps.

iii. Wind Resource and Developability: BOEM is aware of multiple recent spatial data developments that are under consideration for inclusion within the suitability model to inform wind resource assessment and potential developability of locations within the Call Area. Specifically, BOEM is aware of: (1) a 2024 update to the National Renewable Energy Laboratory's (NREL) Levelized Cost of Energy dataset for offshore wind; (2) a 2023 update to NREL's Atlantic wind speed data; and (3) a Joint Industry Project funded by DOE, and led by NREL and Cornell University, with additional funding and participation from offshore wind developers and BOEM to assess the wake effect between adjacent offshore wind farms.

b. Call Area: Areas and Spatial Data Requiring Further Analysis

Through the Central Atlantic 1 planning process BOEM received feedback from the Central Atlantic Task Force and the public through meetings and comment periods. The numbered non-exhaustive list below reflects areas and spatial data that BOEM heard about most frequently through feedback. Note that a description of areas and spatial data reflective of known DOD, USCG, NASA, and NPS concerns are described in sections 7.c-f.

BOEM currently plans to consider the below described areas and spatial data in the WEA suitability model (described in section 7.a), which could result in a finding that they have low or high suitability for offshore wind. However, BOEM asks for additional information on the specific areas and spatial data listed below to inform BOEM about whether alternative action may be necessary (e.g., removing or constraining certain areas or components of spatial data prior to running the suitability model). Specifically, BOEM seeks data and science-based justifications for how boundaries and any buffers or setbacks should be determined for these areas and spatial data, as well as information regarding whether any effects from offshore wind could be mitigable.

i. Recreational and Commercial Fisheries

Areas: Multiple specific areas of recreational and commercial fisheries concern have been communicated to BOEM, including the: Scallop Rotational Management Areas; Scup Southern Gear Restricted Areas; New Jersey Prime Fishing Areas; Maryland Recreational Fishing Areas; South Cape Lookout Spawning Special Management Zone; and the Snowy Grouper Wreck Marine Protected Area. BOEM is also aware of specific areas requested for avoidance within the Central Atlantic 1 Call Area by the Blue Water Fishermen's Association and the Virginia Marine Resources Commission.

Spatial Data: Multiple comments recommended the use of Vessel Monitoring System (VMS) data to reflect commercial fisheries efforts (e.g., all fisheries, ocean quahog, scallop, squid), noting the limitations of these data for the areas offshore North Carolina. Comments also recommended the use of Vessel Trip Report (VTR), logbook, and port-specific landings data. Fisheries independent survey data, such as the various long-term surf clam and scallop surveys, were recommended to represent potential areas of importance to those fisheries. Large Pelagic Survey data were recommended to represent recreational fishing efforts for highly migratory species, alongside other data reflective of areas of importance to sportfishing tournaments in the region.

While the above list is not exhaustive, BOEM anticipates coordinating closely with NOAA Fisheries Greater Atlantic Regional Field Office (GARFO) and Southeast Regional Office (SERO) to determine the best available spatial data to represent commercial and recreational fisheries in the region.

ii. Marine Habitats

Multiple comments recommended avoidance of the Carl N. Shuster Horseshoe Crab Reserve, artificial reefs, hardbottom and live bottom habitat areas, deep-sea coral areas, and submarine canyons (e.g., `The Point').

While the above list is not exhaustive, BOEM anticipates coordinating closely with NOAA Fisheries GARFO and SERO to determine the best available spatial data to represent marine habitats in the region. This coordination may include development of a “combined habitat data layer” that provides a composite analysis of marine habitat areas of concern, similar to the approach utilized within the suitability model developed for Central Atlantic 1. For more information, please visit: https://www.boem.gov/renewable-energy/state-activities/central-atlantic-appendix-b-wea-final-report-nccos.

iii. Protected Species

Multiple comments recommended avoidance of areas important to protected avian and marine species, such as the black-capped petrel, loggerhead sea turtles, and humpback whales. While the above list is not exhaustive, BOEM anticipates coordinating closely with the USFWS and NOAA Fisheries GARFO and SERO to determine the best available spatial data to represent protected species in the region. This may include the development of one or more “combined protected species data layers” that provides a composite analysis of protected species areas of concern, similar to the approach utilized within the suitability model developed for Central Atlantic 1. For more information, please visit: https://www.boem.gov/renewable-energy/state-activities/central-atlantic-appendix-b-wea-final-report-nccos.

iv. Industry and Navigation

Multiple comments recommended avoidance of areas associated with munitions and explosives of concern (i.e., unexploded ordnance areas), ocean disposal sites, subsea cables (i.e., MAREA, BRUSA, DUNANT, GlobeNet, and Tat-14), wrecks and obstructions, and anchorage areas. BOEM will coordinate closely with the USCG and NASA on potential conflicts between the Call Area and: (a) the proposed shipping fairways along the Atlantic Coast of the United States described in the notice of proposed rulemaking (USCG-2019-0279-0032) in the Federal Register,¹² and (b) the WFF composite hazard area.

¹² 89 FR 3587 (January 19, 2024).

c. BOEM deferred a decision on the identification of additional WEAs in the Central Atlantic 1 deepwater Call Area areas (i.e., areas E and F; Figure 2) until BOEM could complete further study (for more information on these areas, please visit: https://www.boem.gov/renewable-energy/state-activities/central-atlantic. Multiple comments received through the Central Atlantic 1 planning process expressed concerns regarding natural resource conflicts within these areas, including the presence of the Frank R. Lautenberg Deep-Sea Coral Protection Area and areas of high density of black-capped petrel seabirds. BOEM seeks information regarding the technoeconomic feasibility of offshore wind energy development within the Central Atlantic 1 deepwater Call Areas, along with other information that may help BOEM determine the appropriateness of these areas for offshore wind leasing.

d. Information regarding the identification of historic properties or potential effects to historic properties from leasing, site assessment activities (including the construction of meteorological towers or the installation of meteorological buoys), or commercial wind energy development in the Call Area. This includes potential offshore archaeological sites, cultural resources, or other historic properties within the areas described in this notice and onshore historic properties that could potentially be affected by renewable energy activities within the Call Area. This information will inform BOEM's review of future undertakings conducted pursuant to section 106 of the National Historic Preservation Act (NHPA) and the National Environmental Policy Act (NEPA).

e. Information relating to visual and scenic resources, including seascape, landscape, and ocean character aesthetics; visually sensitive areas along the coastline that are sensitive to changes in ocean views (e.g., scenic seaside trails, National Park System units, National Wildlife Refuges, state parks, historic districts, conservation areas, and other special designations with scenic value); suggestions for potential key observation points for evaluating potential visual impacts (i.e., places that people visit, recreate, work, and live where ocean views contribute to the quality of experience); general or specific public concerns over potential visual impacts by wind energy development; and potential strategies to help minimize or mitigate any visual effects. BOEM welcomes input on the degree of acceptable or unacceptable levels of offshore wind energy visibility as would be seen from the coastline, and thresholds of diminished or increased visibility as influenced by distances between onshore viewers and wind energy facilities. BOEM welcomes recommendations on minimum distances between the coastline and lease areas to minimize concerns over potential visual impacts.

f. Information regarding the potential for interference with radar systems covering the Call Area, including, but not limited to, the use of surface and airborne radar systems for offshore search and rescue operations and environmental monitoring.

g. Information regarding ongoing and future exploration for offshore sand resources, including nearshore resources and placement areas that may be impacted by new lease areas or possible electrical cable transmission routes. This includes pertinent information regarding future sand resource needs for the region. This information will be used in coordination with the USACE, BOEM's Marine Minerals Program, and other stakeholders to analyze multi-use conflicts.

h. Information on the constraints and advantages of possible electrical cable transmission routes, including onshore landing and interconnection points for cables connecting offshore wind energy facilities to the onshore electrical grid, and information regarding future demand for electricity in the region.

i. BOEM is continuing to take a planned approach to transmission, including potentially requiring the use of shared infrastructure for interconnection, where appropriate. BOEM requests expressions of general interest by developers in the potential development and use of shared transmission infrastructure. This could include agreements among offshore wind lessees for shared systems or the independent development of transmission systems, including backbone or networked systems. For independent systems, BOEM may need to issue a Right of Way Grant or Right of Use Easement, which would involve a separate process from the competitive lease sale that may result from Central Atlantic 2. Feedback may also include comments from potential lessees on ways to better incentivize the use of shared infrastructure for transmission. BOEM also recognizes that the region identified could interconnect in both the PJM area or independent states and, therefore, is interested in receiving feedback on obstacles and opportunities for interregional systems.

j. Information regarding the size and number of WEAs, taking into consideration the offshore wind energy goals of states surrounding the Call Area. BOEM requests further information on what additional factors it should consider in determining the size and number of WEAs.

k. Information regarding potential auction formats that BOEM may consider as part of the leasing process.

l. Information related to Tribal Nations in the Central Atlantic region and interactions with potential offshore wind energy facilities, such as potential impacts to Tribal cultural practices; lands; treaty rights; resources; ancestral lands; sacred sites, including sites that are submerged; access to traditional areas of cultural or religious importance on federally managed lands and waters; and the ability of a Tribe to govern or provide services to its members. BOEM will protect confidential information shared by Tribes in response to this Call to the extent authorized by federal law. Treatment of confidential information is addressed in section 10 of this notice entitled, “Protection of Privileged, Personal, or Confidential Information.”

m. Socioeconomic information for communities potentially affected by wind energy leasing in the Call Area, including community profiles, vulnerability and resiliency data, and information on environmental justice communities. BOEM also solicits comments on how to best meaningfully engage with these communities.

n. Information on coastal or onshore activities needed to support offshore wind energy development, such as port and transmission infrastructure, and associated potential impacts to recreation, scenic, cultural, historical, and natural resources relating to those activities.

o. Any other relevant information that you think BOEM should consider during its planning and decision-making process for the purpose of identifying areas to lease within the Call Area.

9. Required Nomination Information

BOEM previously received information that its former practice of publishing the areas nominated by each qualified company in response to a Call may disincentivize entities from submitting nominations. Nominations and the accompanying rationale are extremely useful to help BOEM understand and model the commercial viability of portions of the OCS. Therefore, BOEM will not publish individual maps of each qualified company's nominations received in response to this Call. BOEM will publish a heatmap that shows an aggregated view of all the nominations and a list of the qualified companies that submitted nominations. Where applicable, qualified companies should submit spatial information in a format compatible with ESRI ArcGIS (ESRI shapefile or ESRI file geodatabase) in the NAD 83 geographic coordinate system.

BOEM deferred a decision on the identification of additional WEAs in the Central Atlantic 1 deepwater Call Area areas (i.e., areas E and F; Figure 2) until BOEM could complete further study. As part of Central Atlantic 1 published in mid-2022, BOEM received nominations from companies within these Call Area areas (for more information, please visit: https://www.boem.gov/renewable-energy/state-activities/central-atlantic). BOEM is accepting nominations within the deepwater Call Area areas, and depending upon the level of industry interest indicated by potential nominations and the consideration of other information received related to section 8.c above, BOEM may consider further evaluation of these areas as part of the Central Atlantic 2 planning and leasing process.

If you wish to nominate one or more areas for a commercial wind energy lease within the Call Area or the Central Atlantic 1 deepwater Call Area areas E and F, you must provide the following information for each nomination:

(a) The BOEM protraction name, number, and the specific whole or partial OCS blocks within the Call Area that you are interested in leasing. If your nomination includes one or more partial blocks, please describe those partial blocks in terms of sixteenths (i.e., sub-block) of an OCS block. Each area you nominate should be sized appropriately to accommodate the development of a reasonable wind energy facility (e.g., a facility with the generation capacity of up to 1,500 megawatts). For context, BOEM would consider the nomination of an area containing 150,000 acres appropriate to support a generation capacity of up to 2,428 megawatts (assuming a 4-MW/km² wind turbine density). Nominations that considerably exceed the acreage needed to support a generation capacity of up to 2,428 megawatts, such as a nomination for the entire Call Area, may be deemed unreasonable and not accepted by BOEM.

(b) A rationale describing why you selected the nominated areas. The more detailed the rationale provided, the more informative it will be to BOEM's process. BOEM is particularly interested in how factors like wind speed, water depth, seafloor slope and bottom type, and interconnection points factor into the nomination process.

(c) A description of your objectives and the facilities that you would use to achieve those objectives.

(d) A preliminary schedule of proposed activities, including those leading to commercial operations.

(e) Available and pertinent data and information concerning renewable energy resources and environmental conditions in each area that you wish to lease, including energy and resource data, and other information used to evaluate the area.

(f) Documentation demonstrating that you are legally, technically, and financially qualified to hold an OCS wind energy lease, as set forth in 30 CFR 585.107—585.108. Qualification materials should be developed in accordance with the guidelines available at https://www.boem.gov/Renewable-Energy-Qualification-Guidelines. For examples of documentation appropriate for demonstrating your legal qualifications and related guidance, contact Gina Best, BOEM Office of Renewable Energy Programs, at Gina.Best@boem.gov or 703-787-1341.

10. Protection of Privileged, Personal, or Confidential Information

a. Freedom of Information Act

BOEM will protect privileged or confidential information you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of such information or comments not containing such privileged or confidential information. Information that is not labeled as privileged or confidential may be regarded by BOEM as suitable for public release.

b. Personally Identifiable Information

BOEM encourages you not to submit anonymous comments. Please include your name and address as part of your comment. You should be aware that your entire comment, including your name, address, and any personally identifiable information (PII) included in your comment, may be made publicly available. All submissions from identified individuals, businesses, and organizations will be available for public viewing on regulations.gov. Note that BOEM will make available for public inspection all comments, in their entirety, submitted by organizations and businesses, or by individuals identifying themselves as representatives of organizations or businesses.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this Call, your submission is subject to FOIA and, if your submission is requested under the FOIA, your information will be withheld only if a determination is made that one of the FOIA's exemptions to disclosure applies. Such a determination will be made in accordance with the Department's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of the NHPA as confidential.

11. BOEM's Environmental Review Process

Before deciding whether leases may be issued, BOEM will prepare an environmental assessment (EA) under NEPA (including public comment periods to determine the scope of the EA and to review and comment on the draft EA). The EA will analyze anticipated impacts from leasing within the WEAs and site characterization and assessment activities expected to occur after a lease is issued. Site characterization activities include geophysical, geotechnical, archaeological, and biological surveys, and site assessment activities including the installation and operation of meteorological buoys. BOEM will also conduct appropriate consultations with Federal agencies and Tribal, State, and local governments during preparation of the EA. These consultations include, but are not limited to, those required by the Coastal Zone Management Act, the Magnuson-Stevens Fishery Conservation and Management Act, the Endangered Species Act, section 106 of the NHPA, and Executive Order 13175, “Consultation and Coordination with Indian Tribal Governments.”

Before BOEM allows any construction of a wind energy project in the Call Area, BOEM must approve a construction and operations plan (COP) submitted by a Lessee. Prior to the approval of a COP, BOEM will need to consider the potential environmental effects of the construction and operation of any wind energy facility under a separate, project-specific NEPA analysis. This analysis will include additional opportunities for public involvement and may result in the publication of an environmental impact statement.

Walter Cruickshank,
Deputy Director, Bureau of Ocean Energy Management.

[FR Doc. 2024-18841 Filed 8-21-24; 8:45 am]

BILLING CODE 4340-98-P